DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on March 31, 2004, at the Camden House in Whiskeytown National Park, California. The purpose of the meeting is to discuss issues relating to implementing the Northwest Forest Plan.

DATES: The meeting will be held March 31, 2004.

Location: The meeting will be held in the Camden House at Whiskeytown National Park, CA.

FOR FURTHER INFORMATION CONTACT: Julie Nelson, Committee Coordinator, USDA, Shasta-Trinity National Forest, 3644 Avtech Parkway, Redding CA, 96002 (530) 226-2429; or by e-mail: jknelson@fs.fed.us.

SUPPLEMENTARY INFORMATION: The meeting is open to the public. Opportunity will be provided for public input and individuals will have the opportunity to address the Committee at that time.

Dated: February 23, 2004.
J. Sharon Heywood,
Forest Supervisor.

[FR Doc. 04-4511 Filed 2-27-04; 8:45 am]

BILLING CODE 3410-FK-M